DEPARTMENT OF THE INTERIOR

Bureau of Land Management

[CA-320-1820-XQ]

Notice of Resource Advisory Council Meeting

AGENCY: Bureau of Land Management, Northeast California Resource Advisory Council, Susanville, California

ACTION: Notice of meeting.

SUMMARY: Pursuant to the authorities in the Federal Advisory Committees Act (Public Law 92-463) and the Federal Land Policy and Management Act (Public Law 94-579), the U. S. Bureau of Land Management's Northeast California Resource Advisory Council will meet Tuesday, Aug. 29, 2000, at the Bureau of Land Management's Eagle Lake Field Office, 2950 Riverside Drive, Susanville, CA.

SUPPLEMENTARY INFORMATION: The meeting begins at 8 a.m. in the Eagle Lake Field Office Conference Room. The council will hear a report from its juniper management subcommittee and review proposed off-highway vehicle management guidelines developed by its off-highway vehicle subcommittee. At 10 a.m., the council will open the meeting to public comments on off-highway vehicle management on BLM-administered public lands. The public comments will be taken as part of a national series of BLM listening sessions on off-highway vehicle issues.

Members of the public can also comment on other public lands management issues during the public comment period. Depending on the number of persons wishing to speak, a time limit may be established.

FOR FURTHER INFORMATION: Contact BLM Alturas Field Manager Tim Burke at (530) 257-4666.

Joseph J. Fontana,
Public Affairs Officer.

[FR Doc. 00-19756 Filed 8-3-00; 8:45 am]

BILLING CODE 4310-40-P